DEPARTMENT OF TRANSPORTATION

Office of the Secretary

[Docket No. DOT-OST-2014-0011]

National Freight Advisory Committee; Notice of Public Meeting

AGENCY: Department of Transportation.

ACTION: Notice of public meeting.

SUMMARY: The U.S. Department of Transportation (DOT) announces a public meeting of its National Freight Advisory Committee (NFAC) to develop comments on the draft National Freight Strategic Plan (Plan). The meeting is open to the public and there will be an opportunity for public comment.

DATES: The meeting will be held on Friday, November 13, 2015 from 8:30 a.m. to 12:30 p.m., Eastern Standard Time.

Location: The meeting will be held at the U.S. Department of Transportation, 1200 New Jersey Avenue SE., Washington, DC 20590.

FOR FURTHER INFORMATION CONTACT: John Drake, Deputy Assistant Secretary for Transportation Policy at (202) 366-1999 or by email at freight@dot.gov or visit the NFAC Web site at www.transportation.gov/nfac.

SUPPLEMENTARY INFORMATION:

Background: The NFAC was established to provide advice and recommendations to the Secretary of Transportation on matters related to freight transportation in the United States, including (1) Implementation of the freight provisions of the Moving Ahead for Progress in the 21st Century Act (MAP-21; Pub. L. 112-141); (2) establishment of the National Freight Network; (3) development of the Plan; (4) development of strategies to help States implement State Freight Advisory Committees and State Freight Plans; (5) development of measures of conditions and performance in freight transportation; (6) development of freight transportation investment, data, and planning tools; and (7) legislative recommendations. The NFAC operates as a discretionary committee under the authority of the DOT, established in accordance with the provisions of the Federal Advisory Committee Act (FACA), as amended, 5 U.S.C. App. 2. See DOT's NFAC Web site for additional information about the committee's activities at www.transportation.gov/nfac.

On October 18, 2015, the DOT issued the draft National Freight Strategic Plan for public comment. The draft Plan describes the freight transportation system, including major corridors and gateways, and assesses the physical, institutional, and financial barriers to improvement. Importantly, the draft Plan also recommends specific strategies to help support our freight transportation system through improved planning, dedicated funding streams, and innovative technologies. The draft Plan and additional information about the DOT's freight activities are available at www.transportation.gov/freight.

Agenda: The agenda will include:

(1) Welcome and opening remarks;

(2) Discussion on the draft National Freight Strategic Plan;

(3) Public comment.

The meeting agenda will be posted on the NFAC Web site at www.transportation.gov/nfac in advance of the meeting.

Public Participation: This meeting will be open to the public. Members of the public who wish to attend in person are asked to RSVP to freight@dot.gov with your name and affiliation no later than November 6, 2015, in order to facilitate entry and guarantee seating.

Services for Individuals with Disabilities: The public meeting is physically accessible to people with disabilities. Individuals requiring accommodations, such as sign language interpretation or other ancillary aids, are asked to notify John Drake, at (202) 366-1999 or freight@dot.gov five (5) business days before the meeting.

Written comments: Persons who wish to submit written comments for consideration by the Committee must email freight@dot.gov or send them to John Drake, Deputy Assistant Secretary for Transportation Policy, National Freight Advisory Committee, 1200 New Jersey Avenue SE., W82-320, Washington, DC 20590 by November 6, 2015 to provide sufficient time for review. All other comments may be received at any time before or after the meeting.

Dated: October 26, 2015.
John Drake,
Deputy Assistant Secretary for Transportation Policy.

[FR Doc. 2015-27607 Filed 10-28-15; 8:45 am]

BILLING CODE 4910-9X-P